NATIONAL SCIENCE FOUNDATION

Proposal Review Panel for Materials Research; Notice of Meeting

In accordance with the Federal Advisory Committee Act (Pub. L. 92-463 as amended), the National Science Foundation announces the following meeting:

Name: Site visit review of the Materials Research Science and Engineering Center (MRSEC) at Brandeis University by the Division of Materials Research (DMR) #1203.

Dates & Times: Oct 11, 2012; 7:15 a.m.—8:30 p.m., Oct 12, 2012; 7:15 a.m.-4:30 p.m.

Place: Brandeis University, Waltham, MA.

Type of Meeting: Part open.

Contact Person: Dr. Mary E. Galvin, Program Director, Materials Research Science and Engineering Centers Program, Division of Materials Research, Room 1065, National Science Foundation, 4201 Wilson Boulevard, Arlington, VA 22230, Telephone (703) 292-8562.

Purpose of Meeting: To provide advice and recommendations concerning further support of the MRSEC at Brandeis University.

Agenda

Thursday, Oct 11, 2012

7:15 a.m.-4:30 p.m. Open—Review of the MRSEC,

5:00 p.m.—6:45 p.m. Closed—Executive Session.

Friday, Friday Oct 12, 2012

7:15 a.m.-9:50 a.m. Closed—Executive Session,

9:50 a.m.-4:30 p.m. Closed—Executive Session, Draft and Review Report.

Reason For Closing: The work being reviewed may include information of a proprietary or confidential nature, including technical information; financial data, such as salaries and personal information concerning individuals associated with the MRSEC. These matters are exempt under 5 U.S.C. 552 b(c), (4) and (6) of the Government in the Sunshine Act.

Dated: September 11, 2012.
Susanne Bolton,
Committee Management Officer.

[FR Doc. 2012-22748 Filed 9-14-12; 8:45 am]

BILLING CODE 7555-01-P